DEPARTMENT OF DEFENSE

Department of the Army, Corps of Engineers

Chetco River Gravel Mining Executive and Technical Teams; Notification of Availability of Documents.

AGENCY: U.S. Army Corps of Engineers, DoD.

ACTION: Notice.

SUMMARY: The U.S. Army Corps of Engineers (Corps) is making available to the public all work products of the Chetco River Gravel Mining Executive and Technical Teams. These work products consist of meeting agendas, meeting minutes, reports, and other documents related to the proposed Chetco River Gravel Mining Regional General Permit and the evaluation of commercial gravel mining activities in other river systems within the state of Oregon. These work products (and additional information concerning the proposed regional general permit) can be viewed at http://www.nwp.usace.army.mil/regulatory/publicnotice.asp under the heading “Chetco River gravel mining.” The Corps is soliciting comments from the public on these documents. The Corps will consider these comments in the evaluation of whether to issue the Chetco River Gravel Mining Regional General Permit.

DATES: Written comments must be submitted by December 8, 2010.

ADDRESSES: You may submit comments by any of the following methods:

E-mail: judy.l.linton@usace.army.mil.

Mail: U.S. Army Corps of Engineers, Portland District (CENWP-OD-G), Attn: Ms. Judy Linton, P.O. Box 2946, Portland, Oregon 97208-2946.

FOR FURTHER INFORMATION CONTACT: Ms. Judy Linton, Project Manager, Portland District, Corps of Engineers, CENWP-OD-G, 333 SW First Avenue, P.O. Box 2946, Portland, Oregon 97208-2946, phone: (503) 808-4382 or e-mail judy.l.linton@usace.army.mil.

SUPPLEMENTARY INFORMATION: The Executive and Technical Teams were established in 2007 as part of an initiative to evaluate, on a watershed basis, commercial gravel mining within the state of Oregon. The teams consisted of representatives of the U.S. Army Corps of Engineers, Environmental Protection Agency, U.S. Fish & Wildlife Service, National Marine Fisheries Service, Oregon Department of State Lands, Oregon Department of Environmental Quality, Oregon Department of Land Conservation and Development, Oregon Department of Fish & Wildlife, and the Oregon Concrete and Aggregate Producers Association. Effective October 29, 2010, the Corps formally disbanded the Executive and Technical Teams prior to moving forward with the evaluation of the proposed Chetco River Gravel Mining Regional General Permit.

Dated: October 28, 2010.
Kevin P. Moynahan,
Chief, Regulatory Branch, Portland District.

[FR Doc. 2010-27895 Filed 11-5-10; 8:45 am]

BILLING CODE 3720-58-P